DEPARTMENT OF HEALTH AND HUMAN SERVICES

Administration on Aging

2005 White House Conference on Aging

AGENCY: Administration on Aging, HHS.

ACTION: Notice of meeting.

SUMMARY: Pursuant to Section 10(a) of the Federal Advisory Committee Act as amended (5 U.S.C. Appendix 2), notice is hereby given of the fifth Policy Committee meeting concerning planning for the 2005 White House Conference on Aging. The meeting will be open to the public, with attendance limited to space available. Individuals who plan to attend and need special assistance, such as sign language interpretation or other reasonable accommodations, should inform the contact person listed below in advance of the meeting.

DATES: The meeting will be held Wednesday, May 18, 2005, from 9 a.m. to 5 p.m.

ADDRESSES: The meeting will be held at the Grand Hyatt, 1000 H Street, NW., Washington, DC 20001.

FOR FURTHER INFORMATION CONTACT: Kim Butcher, (301) 443-2887, or e-mail at Kim.Butcher@whcoa.gov. Registration is not required. Seating is on a first come, first-served basis.

SUPPLEMENTARY INFORMATION: Pursuant to the Older Americans Act Amendments of 2000 (Pub. L. 106-501, November 2000). the Policy Committee will meet to continue discussions and planning for the 2005 White House Conference on Aging. In addition, there will be presentations by David Eisner, Chief Executive Officer of the Corporation for National and Community Service, and Michael O'Grady, Assistant Secretary for Planning and Evaluation, Department of Health and Human Services.

Dated: April 22, 2005.
Edwin L. Walker,
Deputy Assistant Secretary for Policy and Programs.

[FR Doc. 05-8434 Filed 4-26-05; 8:45 am]

BILLING CODE 4154-01-P